DEPARTMENT OF THE INTERIOR

U.S. Geological Survey

National Earthquake Prediction Evaluation Council (NEPEC)

AGENCY: U.S. Geological Survey.

ACTION: Notice of Meeting.

SUMMARY: Pursuant to Public Law 96-472, the National Earthquake Prediction Evaluation Council (NEPEC) will hold a 1½-day meeting on November 14 and 15, 2011, on the campus of the University of Washington. The Council is comprised of members from academia and the Federal Government. The Council shall advise the Director of the U.S. Geological Survey on proposed earthquake predictions, on the completeness and scientific validity of the available data related to earthquake predictions, and on related matters as assigned by the Director. Additional information about the Council may be found at: http://www.earthquake.usgs.gov/aboutus/nepec/.

At the meeting, the Council will receive briefings on lessons learned from the 2010 Chile and 2011 Japan subduction earthquakes, monitoring and research efforts relating to earthquakes in the Pacific Northwest, research and development relating to earthquake early warning and short-term aftershock forecasting, and recent findings from the study of episodic tremor and slip and from the analysis of various seismic hazards in and around the State of Washington. The Council will also receive brief updates on the project intended to deliver an updated Uniform California Earthquake Rupture Forecast (UCERF3) in summer 2012, and on other topics.

A draft workshop agenda is available on request (contact information below). In order to ensure sufficient seating and hand-outs, it is requested that visitors pre-register by November 8, 2011. Members of the public wishing to make a statement to the Council should provide notice of that intention by November 8 so that time may be allotted in the agenda.

DATES: The meeting will be held in Parrington Hall at the University of Washington, Seattle, Washington 98195. On November 14 it will be in the Forum Room 309, commencing at 8:30 a.m. and adjourning at 5:30 p.m. On November 15 it will be in the Commons Room 308, commencing at 8:30 a.m. and adjourning at noon. Times are approximate. Guests are encouraged to contact the Executive Secretary for a copy of the agenda and instructions for parking and locating the meeting rooms.

FOR FURTHER INFORMATION CONTACT: Dr. Michael Blanpied, Executive Secretary, National Earthquake Prediction Evaluation Council, U.S. Geological Survey, MS 905, 12201 Sunrise Valley Drive Reston, Virginia 20192, (703) 648-6696, Email: mblanpied@usgs.gov.

Dated: October 28, 2011.
John R. Filson,
Acting Program Coordinator, Earthquake Hazards Program.

[FR Doc. 2011-29026 Filed 11-8-11; 8:45 am]

BILLING CODE P